DEPARTMENT OF STATE

[Public Notice 3739]

Advisory Committee on International Communications and Information Policy; Meeting Notice

The Department of State is announcing the next meeting of its Advisory Committee on International Communications and Information Policy (ACICIP).

The Committee provides a formal channel for regular consultation and coordination on major economic, social, and legal issues, and problems in international communications and information policy, especially as these issues and problems involve users of information and communications services, providers of such services, technology research and development, foreign industrial and regulatory policy, the activities of international organizations with regard to communications and information, and developing country interests.

David Gross, Senior Advisor for International Communications and Information Policy to Assistant Secretary E. Anthony Wayne, will attend the meeting together with others from the Office of Communications and Information Policy at the Department of State. Items on the agenda will include communications policy issues and countries of particular interest to ACICIP. Mr. Gross also would like to solicit ideas from ACICIP on methods to optimize public feedback to the State Department, as well as on specific issues of interest related to upcoming bilateral meetings with France, Germany, and the United Kingdom, respectively.

This meeting will be held on Thursday, September 20, 2001, from 9:30 a.m. to 12:00 p.m. in Room 1105 of the Main Building of the U.S. Department of State, located at 2201 “C” Street, NW., Washington, DC 20520.

Members of the public may attend these meetings up to the seating capacity of the room. While the meeting is open to the public, admittance to the State Department building is only by means of a pre-arranged clearance list. In order to be placed on the pre-clearance list, please provide your name, title, company, social security number, date of birth, and citizenship to Pamela M. Bates at batespm2@state.gov no later than 5:00 p.m. on Tuesday, September 18. All attendees for this meeting must use the 23rd Street entrance. One of the following valid ID's will be required for admittance: any U.S. driver's license with photo, a passport, or a U.S. government agency ID. Non-U.S. government attendees must be escorted by State Department personnel at all times when in the State Department building.

For further information, please contact Pamela M. Bates, Executive Secretary of the Committee, at (202) 647-5820 or batespm2@state.gov.

Dated: August 20, 2001.
Pamela M. Bates,
Executive Secretary, Advisory Committee on International Communications and Information Policy, U.S. Department of State.

[FR Doc. 01-21585 Filed 8-24-01; 8:45 am]

BILLING CODE 4710-45-P